DEPARTMENT OF AGRICULTURE

Food and Nutrition Service

Agency Information Collection Activities: Proposed Collection; Comment Request—Generic Clearance for the Special Nutrition Programs Quick Response Surveys (SNP QRS)

AGENCY: Food and Nutrition Service (FNS), USDA.

ACTION: Notice.

SUMMARY: In accordance with the Paperwork Reduction Act of 1995, this notice invites the general public and other public agencies to comment on this proposed information collection. This is a new collection to conduct short quick turnaround surveys of State and local agencies providing food, education and other services in the Child Nutrition and Supplemental Nutrition and Safety Programs administered at the federal level by the Food and Nutrition Service (FNS). These programs include the Special Supplemental Nutrition Program for Women, Infants, and Children, National School Lunch Program, School Breakfast Program, Special Milk Program, Fresh Fruit and Vegetable Program, Summer Food Service Program, the Child and Adult Care Food Program, and the Food Distribution Programs.

DATES: Written comments must be received on or before January 19, 2016.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Written comments may be sent to Janis Johnston, Ph.D., Senior Technical Advisor, Office of Policy Support, Food and Nutrition Service, USDA, 3101 Park Center Drive, Room 1014, Alexandria, VA 22302. Comments may also be submitted via fax to the attention of Janis Johnston at 703-305-2576 or via email to janis.johnston@fns.usda.gov. Comments will also be accepted through the Federal eRulemaking Portal. Go to http://www.regulations.gov and follow the online instructions for submitting comments electronically.

All responses to this notice will be summarized and included in the request for Office of Management and Budget approval. All comments will be a matter of public record.

FOR FURTHER INFORMATION CONTACT: To request more information on the proposed project, contact Janis Johnston, Ph.D., Senior Technical Advisor, Office of Policy Support, Food and Nutrition Service, USDA, 3101 Park Center Drive, Room 1014, Alexandria, VA 22302.

SUPPLEMENTARY INFORMATION:

Title: Generic Clearance for the Special Nutrition Programs Quick Response Surveys (SNP QRS).

Form Number: N/A.

OMB Number: 0584-NEW.

Expiration Date: Not Yet Determined.

Type of Request: New Generic Collection.

Abstract: The Food and Nutrition Service (FNS) intends to request approval from the Office of Management and Budget (OMB) for a generic clearance that will allow FNS to conduct short quick turnaround surveys of State, Local and Tribal agencies that receive food, funds and nutrition information through the Child Nutrition and Supplemental Nutrition and Safety Programs.

These programs include the Special Supplemental Nutrition Program for Women, Infants, and Children (WIC), National School Lunch Program (NSLP), School Breakfast Program (SBP), Special Milk Program (SMP), Fresh Fruit and Vegetable Program (FFVP), Summer Food Service Program (SFSP), the Child and Adult Care Food Program (CACFP), and the Food Distribution Programs. WIC provides Federal grants to States for supplemental foods, health care referrals, and nutrition education for low-income pregnant, breastfeeding, and non-breastfeeding postpartum women, and to infants and children up to age five who are found to be at nutritional risk. NSLP is a federally assisted meal program operating in approximately 100,000 public and non‐profit private schools and residential childcare institutions. School districts that participate in NSLP receive cash subsidies and donated commodities from USDA for each meal they serve. SBP is also a federally assisted meal program operating in over 89,000 public and nonprofit private schools and residential childcare institutions. FFVP provides free fresh fruits and vegetables to students in participating elementary schools during the school day. The fresh fruits and vegetables are provided separately from the lunch or breakfast meal, in one or more areas of the school. When school is not in session, the SFSP provides meals to all children under 19 years of age at approved SFSP sites in areas with significant concentrations of low-income children. CACFP subsidizes nutritious meals and snacks served to children and adults in participating day care facilities. Meals also are provided to children in emergency shelters and eligible after school programs. The Food Distribution Programs include the Commodity Supplemental Food Program (CSFP), the Food Distribution Program on Indian Reservations (FDPIR), and The Emergency Food Assistance Program (TEFAP). CSFP provides nutritious USDA commodity foods and administrative funds to supplement the diets of low-income seniors at least 60 years of age.¹ FDPIR provides USDA commodity foods to low-income households, including the elderly living on Indian reservations, and to Native American families residing in designated areas near reservations. TEFAP provides USDA commodity foods and administrative funds to States, which then provide the food to local agencies that they have selected, usually food banks, which then distribute the food to soup kitchens and food pantries that directly serve the public.

¹ CSFP originally included supplemental foods for pregnant, breastfeeding, and postpartum women, infants, and children, but changes in the program turned the focus towards low-income adults age 60 and older. Women, infants and children who were certified as of February 6, 2014, may continue receiving CSFP benefits until they are no longer eligible under the program rules that existed in 2014.

The Healthy Hunger-Free Kids Act of 2010 (Pub. L. 111-296, Sec. 305) mandates programs under its authorization to cooperate with USDA program research and evaluation activities. Traditionally, FNS conducts program-specific large studies to collect information on numerous features of each program. Such studies often take several years to complete. The Quick Response Surveys provide a system for rapidly collecting current information on a specific feature or issue, and, therefore, enable FNS to administer the programs more effectively.

Following standard OMB requirements, FNS will submit a change request to OMB for each data collection activity undertaken under this generic clearance. The respondents will be identified at the time that each change request is submitted to OMB. FNS will provide OMB with the instruments and supporting materials describing the research project and specific pre-testing activities.

Affected Public: Respondent categories of affected public and the corresponding study participants will include: State, local and Tribal agencies. Respondents will include: (1) State Program Directors including WIC State agency directors, WIC State nutrition education and breastfeeding coordinators, directors of the Child Nutrition programs (NSLP/SBP, FFVP), directors of SFSP and CACFP, directors of State Distributing agencies (CSFP, TEFAP) and Indian Tribal Organization contacts for FDPIR; (2) Local-level program administrators including School Food Authorities, Local Education Agencies, Schools, Local WIC Agencies and Sites, SFSP Sponsors and Sites, TEFAP Eligible Recipient Agencies (ERAs), TEFAP Emergency Food Organizations (EFOs), and CACFP Sponsors and Providers.

Number of Respondents: 21,023 annually.

Frequency of Responses: 1.98 times per year.

Average Burden Hours per Response: 0.28 hours.

Total Annual Burden Hours: 11,597 hours. See the table below for estimated total annual burden for each type of respondent.

Program | Data collection activity | Respondent | Number of respondents (annual) | Frequency of responses (annual) | Annual responses | Average burden (hours per response) | Annual burden hours | Number of non-respondents (annual) | Frequency of responses (annual) | Annual responses (non-response) | Average burden (hours per non-response) | Annual burden hours (non-response) | Total annual burden
WIC | Contact Info Request | WIC State Agency | 100 | 1 | 100 | 1 | 100 | 0 | 1 | 0 | 0.017 | 0 | 100
WIC | Survey | WIC State Agency | 100 | 2 | 200 | 0.33 | 67 | 0 | 2 | 0 | 0.017 | 0 | 67
WIC | Survey | Local WIC Agency | 1275 | 2 | 2550 | 0.33 | 850 | 310 | 2 | 620 | 0.017 | 11 | 861
WIC | Survey | Local WIC Site | 2000 | 2 | 4000 | 0.33 | 1333 | 500 | 2 | 1000 | 0.017 | 17 | 1350
NSLP/SBP/FFVP | Contact Info Request | Child Nutrition State Agency | 54 | 1 | 54 | 1 | 54 | 0 | 1 | 0 | 0.017 | 0 | 54
NSLP/SBP/FFVP | Survey | Child Nutrition State Agency | 54 | 2 | 108 | 0.33 | 36 | 0 | 2 | 0 | 0.017 | 0 | 36
NSLP/SBP/FFVP | Survey | SFA | 1400 | 2 | 2800 | 0.33 | 933 | 350 | 2 | 700 | 0.017 | 12 | 945
NSLP/SBP/FFVP | Survey | School | 1500 | 1 | 1500 | 0.33 | 500 | 375 | 1 | 375 | 0.017 | 6 | 506
SFSP | Contact Info Request | State Agency | 54 | 1 | 54 | 1 | 54 | 0 | 1 | 0 | 0.017 | 0 | 54
SFSP | Survey | State Agency | 54 | 2 | 108 | 0.33 | 36 | 0 | 2 | 0 | 0.017 | 0 | 36
SFSP | Survey | Sponsors | 1500 | 2 | 3000 | 0.33 | 1000 | 375 | 2 | 750 | 0.017 | 13 | 1013
SFSP | Survey | Sites | 2100 | 2 | 4200 | 0.33 | 1400 | 525 | 2 | 1050 | 0.017 | 18 | 1418
CACFP | Contact Info Request | State Agency | 54 | 1 | 54 | 1.00 | 54 | 0 | 1 | 0 | 0.017 | 0 | 54
CACFP | Survey | State Agency | 54 | 2 | 108 | 0.33 | 36 | 0 | 2 | 0 | 0.017 | 0 | 36
CACFP | Survey | Sponsors | 1750 | 3 | 5250 | 0.33 | 1750 | 438 | 3 | 1314 | 0.017 | 22 | 1772
CACFP | Survey | Sites | 1950 | 2 | 3900 | 0.33 | 1300 | 488 | 2 | 976 | 0.017 | 16 | 1316
TEFAP | Contact Info Request | State Agency | 54 | 1 | 54 | 1.00 | 54 | 0 | 1 | 0 | 0.017 | 0 | 54
TEFAP | Survey | State Agency | 54 | 2 | 108 | 0.33 | 36 | 0 | 2 | 0 | 0.017 | 0 | 36
TEFAP | Survey | ERAs | 300 | 2 | 600 | 0.33 | 200 | 75 | 2 | 150 | 0.017 | 3 | 203
TEFAP | Survey | EFOs | 2100 | 2 | 4200 | 0.33 | 1400 | 525 | 2 | 1050 | 0.017 | 18 | 1418
FDPIR | Contact Info Request | State Agencies/ITOs | 105 | 1 | 105 | 1 | 105 | 0 | 1 | 0 | 0.017 | 0 | 105
FDPIR | Survey | State Agencies/ITOs | 105 | 2 | 210 | 0.33 | 70 | 0 | 2 | 0 | 0.017 | 0 | 70
FDPIR | Survey | Tribes | 276 | 1 | 276 | 0.33 | 92 | 69 | 1 | 69 | 0.017 | 1.15 | 93
Total |  |  | 16,993 | 1.97 | 33,539 | 0.51 | 11,460 | 4,030 | 2.00 | 8,054 | 0.017 | 137.15 | 11,597
Assumptions:
1. Each State agency will be asked to provide contact information for their respective local agencies. This request will be annual and take 1 hour per response
2. Two QRS for each State Agency per year for each program; 20 minutes per QRS (maximum).
3. Two QRS for each “primary” local agency (SFA, Sponsor, etc.) per year for each program; 20 minutes per QRS (maximum).
4. One QRS for each “secondary” local agency (sites, schools, etc.) per year for each program; 20 minutes per QRS (maximum).

Dated: November 3, 2015.
Yvette S. Jackson,
Acting Administrator, Food and Nutrition Service.

[FR Doc. 2015-29479 Filed 11-19-15; 8:45 am]

BILLING CODE 3410-30-P